ENVIRONMENTAL PROTECTION AGENCY

[FRL-6877-7]

Protection of Stratospheric Ozone: Notice of Revocation for Certifying Programs for Technicians

AGENCY: Environmental Protection Agency (EPA).

ACTION: Notice of revocation.

SUMMARY: Through this action, EPA is announcing the revocation of five programs previously approved to provide the technician certification exam in accordance with the regulations promulgated at 40 CFR 82.161.

Two of these programs—ACI-Environmental Safety Training Institute located in New York, New York and Progressive Training Solutions (formerly Thunder-Light, Inc.) located in Punta Gorda, Florida—were issued letters of revocation that included an explanation of EPA's decision. These two programs have not complied with the recordkeeping and reporting requirements established for all technician certification programs pursuant to section 608 of the Clean Air Act Amendments (the Act). In accordance with those requirements, codified at appendix D of 40 CFR part 82, subpart F, all approved certifying programs for technicians must submit an activity report to EPA on a biannual basis (by every January 30 and June 30). EPA sent an information collection request, issued pursuant to section 114(a) of the Act, dated March 16, 2000, in which EPA requested that the programs submit the required activity report. That information request indicated that failure to respond could result in revocation. Subsequent attempts by EPA to contact these programs were unsuccessful.

In addition, three programs previously approved to provide the technician certification exam in accordance with the regulations promulgated at 40 CFR 82.161, have voluntarily withdrawn. These three programs—Association of Energy Engineers located in Atlanta, Georgia; Gables Residential located in Boca Raton, Florida; and the National Association of Plumbing-Heating-Cooling Contractors located in Falls Church, Virginia; have also received written notification that their certification has been revoked.

As of November 30, 1999, December 30, 1999, and August 31, 2000, the National Association of Plumbing-Heating-Cooling Contractors, the Association of Energy Engineers, and Gables Residential, respectively, are no longer authorized to certify technicians or issue valid certification credentials. However, technicians certified by these programs during the period that the programs operated an EPA-approved program will remain certified in accordance with 40 CFR 82.161(a).

EFFECTIVE DATES: ACI-Environmental Safety Training Institute, Progressive Training Solutions (formerly Thunder-Light, Inc.), and Gables Residential had their approval as certifying programs for technicians revoked, effective August 31, 2000. The National Association of Plumbing-Heating-Cooling Contractors and the Association of Energy Engineers had their approval as certifying programs for technicians revoked, effective November 30, 1999 and December 30, 1999, respectively.

ADDRESSES: Information relevant to this notice is contained in Air Docket A-92-01; Central Docket Section, South Conference Room 4; U.S. Environmental Protection Agency; 401 M Street, SW.; Washington, DC 20460; telephone (202) 260-7548. The docket may be inspected between 8:00 a.m. and 5:30 p.m. weekdays. As provided in 40 CFR part 2, a reasonable fee may be charged for photocopying.

FOR FURTHER INFORMATION CONTACT: Julius Banks; Program Implementation Branch, Stratospheric Protection Division, Office of Atmospheric Programs, Office of Air and Radiation (6205-J); 1200 Pennsylvania Avenue, NW; Washington, DC 20460; (202) 564-9870. The Stratospheric Ozone Information Hotline, (800) 296-1996, can also be contacted for further information.

Dated: September 13, 2000.
Edward Callahan,
Acting Director, Office Of Atmospheric Programs.

[FR Doc. 00-24677 Filed 9-26-00; 8:45 am]

BILLING CODE 6560-50-U